DEPARTMENT OF LABOR

[Docket No: DOL-2021-00##]

Privacy Act of 1974; System of Records

AGENCY: Department of Labor, Employment and Training Administration.

ACTION: Notice of a new system of records.

SUMMARY: As required by the Privacy Act of 1974, and Office of Management and Budget (OMB) Circular No. A-108, this notice is a new Privacy Act System of Records titled Unemployment Insurance Claimant Portal, DOL/ETA-33. This new system will contain records related to claims for unemployment insurance, including personally identifiable information (PII) necessary to verify the identity of an applicant or claimant; claims files; determinations by a State Workforce Agency and any case notes, conversation history, or other records used in making determinations; employer contribution records; and employer wage records.

DATES:

Comment Dates: We will consider comments that we receive on or before April 11, 2022.

Applicable date: This notice is applicable upon publication, subject to a 30-day review and comment period for the routine uses.

ADDRESSES: We invite you to submit comments on this notice. You may submit comments by any of the following methods:

• Federal e-Rulemaking Portal: http://www.regulations.gov. Follow the instructions for submitting comments.

• Mail, hand delivery, or courier: 200 Constitution Avenue NW, S-4516, Washington, DC. In your comment, specify Unemployment Insurance Claimant Portal, and the Docket ID DOL-2021-00##.

• Federal mailbox: https://dol.gov/privacy.

All comments will be made public by DOL and will be posted without change to http://www.regulations.gov, including any personal information provided. Note, the Department of Labor is currently operating under a maximum telework posture, commenters are strongly encouraged to transmit their comments electronically or by mail early. Comments, including any personal information provided, become a matter of public record.

FOR FURTHER INFORMATION CONTACT: To submit general questions about the system, contact Stephanie Garcia, Garcia.Stephanie@dol.gov. Include “Unemployment Insurance Claimant Portal” and the Docket ID DOL-2021-00##.

SUPPLEMENTARY INFORMATION: Pursuant to section three of the Privacy Act of 1974 (5 U.S.C. 552a(e)(4)), hereinafter referred to as the Act, the Department hereby publishes notice of a new system of records. This proposed system of records is entitled DOL/ETA-33, Unemployment Insurance Claimant Portal. The system is a component of the Unemployment Insurance State Program ARPA investment. The system contains information necessary to help Unemployment Insurance (UI) claimants file and manage UI claims.

SYSTEM NAME AND NUMBER:

Unemployment Insurance Claimant Portal, DOL/ETA-33.

SECURITY CLASSIFICATION:

None.

SYSTEM LOCATION:

The Department of Labor (DOL) Employment and Training Administration's (ETA) Office of Unemployment Insurance. The system will be hosted on the Department's cloud and data center computing infrastructure. This will serve as the primary location for the system. Duplicate versions of some or all system information may be at satellite locations where the ETA has granted direct access to support ETA operations, system backup, emergency preparedness, and/or continuity of operations. To determine the location of particular program records, contact the systems manager, listed in section “System Manager” below.

SYSTEM MANAGER(S):

Jim Garner, Administrator, Office of Unemployment Insurance, 200 Constitution Avenue NW, Washington, DC 20210.

AUTHORITY FOR MAINTENANCE OF THE SYSTEM:

Title III of the Social Security Act (SSA), 42 U.S.C. 501-503; the Federal Unemployment Tax Act (FUTA), 26 U.S.C. 3304; Section 2118 of the Coronavirus Aid, Relief, and Economic Security (CARES) Act (Pub. L. 116-136), as amended; Section 410(a) of the Robert T. Stafford Disaster Relief and Emergency Assistance Act (Stafford Act) (42 U.S.C. 5177(a)); The Unemployment Compensation for Ex-Service Members (UCX) law (5 U.S.C. 8509); The Unemployment Compensation for Federal Employees (UCFE) law (5. U.S.C. 8501 et seq.); Chapter 2 of Title II of the Trade Act of 1974 (19 U.S.C. 2271 et seq.), as amended; 20 CFR parts 603 & 604.

PURPOSE(S) OF THE SYSTEM:

The Unemployment Insurance Claimant Portal (UICP) encompasses a joint state-federal program that provides cash benefits to eligible workers for unemployment insurance (UI). Each state administers a separate UI program under their respective state law, which must comply with guidelines established by federal law.

The UICP is a component of the Unemployment Insurance State Program American Rescue Plan Act investment. The UICP is part of a wider effort to modernize UI. The UICP system provides UI applicants with the ability to file and manage UI claims, and states with an improved UI claims intake process. Information about a claim will be captured and ultimately processed and owned by the state that will process the claim.

The information will consist of personally identifiable information (PII) as well as employment-related data consisting of start date of employment, end date of employment, reasons for separation, addresses and phone numbers. Claimants will navigate to the UICP web application and complete an identity-proofing and authentication process using an approved third-party provider. The third-party service provider will collect and encrypt applicant's email, password, name, date of birth, social security number, and images of a state issued identification card. The claimant will then file claims information or manage existing claims information. Finally, claimant data will be sent to or retrieved from states as needed.

While the UICP provides a user interface for claimants, the states themselves are still responsible for eligibility determinations, adjudication, and other administration of the UI program. Therefore, claims data collected by the UICP must be shared with states to ensure states have the information necessary to administer the UI program. As determined through state agreements, data may also be shared back with the UICP to convey claims status information to claimants.

Finally, the UICP will collect information about claims that is not personally identifiable, such as timestamps at various phases in the claims process, and metadata. Such data may be used to evaluate how well the system is performing on timeliness, equity, and other considerations.

CATEGORIES OF INDIVIDUALS COVERED BY THE SYSTEM:

Applicants for and claimants of State or Federal unemployment compensation, employers or employees covered under a State or Federal unemployment compensation law, Disaster Unemployment Assistance or a short-time compensation program.

CATEGORIES OF RECORDS IN THE SYSTEM:

Records in the system(s) may include personally identifiable information such as: Name, date of birth, social security number, address phone number and images necessary to verify the identity of an applicant or claimant; claims files; determinations by a State Workforce Agency and any case notes, conversation history, or other records used in making determinations; employer contribution records; employer wage records; account information such as email address and password; timestamps and metadata; and financial information such as preferred payment method and tax withholding selection.

RECORD SOURCE CATEGORIES:

Information contained in this system is obtained from individuals, employers, and Federal and State Government agencies.

ROUTINE USES OF RECORDS MAINTAINED IN THE SYSTEM, INCLUDING CATEGORIES OF USERS AND PURPOSES OF SUCH USES:

In addition to the disclosures permitted under 5 U.S.C. 522a(b) and consistent with the requirements and limitations in 20 CFR part 603, records may be disclosed in accordance with the Department's Universal Routine Uses of Records published at 81 FR 25765, 25775 (April 29, 2016) and available on DOL's website at https://www.dol.gov/agencies/sol/privacy/intro. In addition, disclosures may be made:

1. To appropriate agencies, entities, and persons when (1) the DOL suspects or confirms a breach of the System of Records; (2) the DOL determines as a result of the suspected or confirmed breach there is a risk of harm to individuals, the DOL (including its information systems, programs, and operations), the Federal Government, or national security; and (3) the disclosure made to such agencies, entities, and persons is reasonably necessary to assist in connection with the DOL's efforts to respond to the suspected or confirmed breach or to prevent, minimize, or remedy such harm.

2. To another Federal agency or Federal entity, when the DOL determines that information from this System of Records is reasonably necessary to assist the recipient agency or entity in (1) responding to a suspected or confirmed breach or (2) preventing, minimizing, or remedying the risk of harm to individuals, the recipient agency or entity (including its information systems, programs and operations), the Federal Government, or national security, resulting from a suspected or confirmed breach.

POLICIES AND PRACTICES FOR STORAGE OF RECORDS:

The files are stored electronically.

POLICIES AND PRACTICES FOR RETRIEVAL OF RECORDS:

Files and automated data are retrieved after identification by coded file number and/or Social Security Number.

POLICIES AND PRACTICES FOR RETENTION AND DISPOSAL OF RECORDS:

The Department will prepare a record retention policy for approval through the National Archives and Records Administration (NARA). Until such policy is approved, the records will be maintained indefinitely.

ADMINISTRATIVE, TECHNICAL, AND PHYSICAL SAFEGUARDS:

Confidential unemployment compensation data will be maintained and stored consistent with the requirements of 20 CFR 603.9. Access by authorized personnel only. Computer security and physical safeguards are used for electronically stored data.

RECORD ACCESS PROCEDURES:

A request for access should be mailed to the System Manager and comply with the requirements specified in 29 CFR 71.2.

CONTESTING RECORD PROCEDURES:

A request for amendment should be mailed to the System Manager and comply with the requirements specified in 29 C.F.R § 71.9.

NOTIFICATION PROCEDURES:

Inquiries should be mailed to the System Manager and comply with the requirements specified in 29 CFR 71.

EXEMPTIONS PROMULGATED FOR THE SYSTEM:

None.

HISTORY:

None.

Milton Stewart,
Senior Agency Official for Privacy, Office of the Assistant Secretary for Administration and Management, U.S. Department of Labor.

[FR Doc. 2022-05013 Filed 3-9-22; 8:45 am]

BILLING CODE 4510-FW-P